DEPARTMENT OF VETERANS AFFAIRS

[OMB Control No. 2900-0168]

Agency Information Collection Activities Under OMB Review

AGENCY: Veterans Benefits Administration, Department of Veterans Affairs.

ACTION: Notice.

SUMMARY: In compliance with the Paperwork Reduction Act (PRA) of 1995 (44 U.S.C. 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before March 21, 2002.

FOR FURTHER INFORMATION OR A COPY OF THE SUBMISSION CONTACT: Denise McLamb, Information Management Service (045A4), Department of Veterans Affairs, 810 Vermont Avenue, NW, Washington, DC 20420, (202) 273-8030, FAX (202) 273-5981 or e-mail: denise.mclamb@mail.va.gov. Please refer to “OMB Control No. 2900-0168.”

SUPPLEMENTARY INFORMATION: Title: Request for Estate Information, VA Form Letter 21-439.

OMB Control Number: 2900-0168.

Type of Review: Extension of a currently approved collection.

Abstract: The form letter is used in VBA's Fiduciary and Field Examination Program, which is responsible for carrying out a Congressional mandate that VA maintain supervision of the distribution and use of VA benefits paid to a fiduciary on behalf of a beneficiary who is incompetent, a minor, or under legal disability. Title 38, U.S.C., section 5503(b)(1)(A), requires discontinuance of benefits when an estate reaches a specific limit and other conditions exist. The information collected is used to determine whether an estate exceeds the limit and discontinuance is warranted.

An agency may not conduct or sponsor, and a person is not required to respond to a collection of information unless it displays a currently valid OMB control number. The Federal Register Notice with a 60-day comment period soliciting comments on this collection of information was published on October 1, 2001, at pages 50001-50002.

Affected Public: Individuals or households—Business or other for-profit—Not-for-profit institutions and state, local or tribal government.

Estimated Annual Burden: 2,300 hours.

Estimated Average Burden Per Respondent: 10 minutes.

Frequency of Response: One time.

Estimated Number of Respondents: 13,800.

Send comments and recommendations concerning any aspect of the information collection to VA's OMB Desk Officer, OMB Human Resources and Housing Branch, New Executive Office Building, Room 10235, Washington, DC 20503 (202) 395-7316. Please refer to “OMB Control No. 2900-0168” in any correspondence.

Dated: January 31, 2002.
By direction of the Secretary.
Barbara H. Epps,
Management Analyst, Information Management Service.

[FR Doc. 02-3894 Filed 2-15-02; 8:45 am]

BILLING CODE 8320-01-P